DEPARTMENT OF AGRICULTURE

Forest Service

36 CFR Part 294

RIN 0596-AC74

Special Areas; Roadless Area Conservation; Applicability to the National Forests in Colorado, Regulatory Risk Assessment

AGENCY: Forest Service, USDA.

ACTION: Proposed rule; risk assessment and request for comments.

SUMMARY: On July 25, 2008, the Forest Service, U.S. Department of Agriculture, proposed to establish a State-specific rule to provide management direction for conserving Colorado roadless areas (73 FR 43544). This proposed rule is estimated to have more than $100,000,000 of economic impact. The proposed rule would satisfy the economic impact and subject matter criteria of 7 U.S.C. 2204e and thus requires a regulatory risk assessment. The Forest Service is seeking comment on the assessment. A copy of the Regulatory Risk Assessment is available at the national roadless Web site http://www.roadless.fs.fed.us.

DATES: Comments must be received in writing by October 23, 2008.

ADDRESSES: Comments on the Regulatory Risk Assessment may be incorporated into comments on the proposed rule. Comments may be sent via e-mail to COcomments@fsroadless.org. Comments also may be submitted via the internet at http://www.regulations.gov. Written comments concerning this notice should be addressed to Roadless Area Conservation—Colorado, P.O. Box 162909, Sacramento, CA 95816-2909, or via facsimile to 916-456-6724. All comments, including names and addresses, when provided, are placed in the record and are available for public inspection and copying.

FOR FURTHER INFORMATION CONTACT: For information on the Regulatory Risk Assessment only, contact Ken Karkula at 202-205-2869. Individuals using telecommunication devices for the deaf (TDD) may call the Federal Information Relay Service (FIRS) at 1-800-877-8339 between 8 a.m. and 8 p.m. Eastern Time, Monday through Friday.

SUPPLEMENTARY INFORMATION: The Forest Service is proposing to establish a State-specific rule to provide management direction for conserving Colorado roadless areas. This rule is estimated to have more than $100,000,000 of economic impact. The rule satisfies the economic impact and subject matter criteria of 7 U.S.C. 2204e and thus requires a regulatory risk assessment.

This risk assessment describes the types of risks to the environment that the proposed rule is designed to reduce, as well as discussing the likelihood that the proposed rule will reduce those risks. Examining risk at the site-specific level is not practical in this assessment therefore this risk assessment will address risks at the broader programmatic level.

The purpose of the proposed rule is to provide lasting protection, within the context of multiple-use management, for roadless areas within the National Forests in Colorado. The regulatory risk assessment assesses the degree to which the rule reduces the risk it was designed to address. In this regulatory risk assessment, the risk that the rule addresses is the risk of not providing lasting protection, within the context of multiple-use management, to the roadless areas within the National Forests in Colorado. The provisions of the proposed rule are intended to provide lasting protection; in the absence of the rule such protection is not guaranteed, as current regulatory direction (2001 Roadless rule) continues to be litigated.

In general, all of the alternatives are expected to reduce the risk of not providing lasting protection to roadless areas in comparison to the condition where no management plans are implemented. Differences between the alternatives are based on the different levels of road construction and reconstruction, tree-cutting, and other activities discussed. Differences in the degree to which the alternatives reduce the risk of not providing lasting protection are small. Due to uncertainty over its legal status, Alternative 1 (2001 Roadless Rule) presents an increased risk of not providing lasting protection over the other two alternatives since it is unclear whether or not the rule will be modified by litigation. Alternative 2 (Proposed Colorado Roadless Rule) reduces the risk of not providing lasting protection over Alternative 3 (Forest Plans) due to the decreased amount of roading, tree-cutting, and mineral development over the amounts estimated if individual forest plans rather than a roadless rule controlled the roadless areas.

Dated: August 28, 2008.
Charles L. Myers,
Associate Deputy Chief for National Forest System.

[FR Doc. E8-21899 Filed 9-17-08; 8:45 am]

BILLING CODE 3410-11-P